AFRICAN DEVELOPMENT FOUNDATION

Sunshine Act Meeting

Meeting: African Development Foundation, Board of Directors Meeting.

Time: Tuesday, October 10, 2006, 9 a.m. to 5 p.m.

Place: African Development Foundation, Conference Room, 1400 I Street, NW., Suite 1000, Washington, DC 20005.

Date: Tuesday, October 10, 2006.

Status:

1. Open session, October 10, 2006, 9 a.m. to 9:15 a.m.;

2. Closed session, October 10, 2006, 9:15 a.m. to 12:15 p.m.; and,

3. Open session, October 10, 2006, 12:15 p.m. to 5 p.m.

Due to security requirements and limited seating, all individuals wishing to attend the open sessions of the meeting must notify Doris Martin, General Counsel, at (202) 673-3916 or mrivard@adf.gov of your request to attend by noon on Thursday, October 5, 2006.

Rodney J. MacAlister,
President.

[FR Doc. 06-8474 Filed 9-29-06; 11:26 am]

BILLING CODE 6117-01-P